DEPARTMENT OF THE TREASURY

Bureau of Engraving and Printing

Privacy Act of 1974, as Amended; System of Records

AGENCY: Bureau of Engraving and Printing, Treasury.

ACTION: Notice of a new Privacy Act system of records.

SUMMARY: The Treasury Department, Bureau of Engraving and Printing, proposes to add a new system of records to its inventory of records systems subject to the Privacy Act of 1974 (5 U.S.C. 552a), as amended. This action is necessary to meet the requirements of the Privacy Act to publish in the Federal Register notice of the existence and character of records systems maintained by the agency (5 U.S.C. 552a(e)(4)).

DATES: The Bureau of Engraving and Printing invites interested parties to submit comments concerning the new system of records on or before September 17, 2003. The new system will become effective without further notice on September 29, 2003, unless comments dictate otherwise.

ADDRESSES: Please send written comments to: Privacy Act Officer, Bureau of Engraving and Printing, 14th and C Streets, SW., Room 646-PD, Washington, DC 20228.

FOR FURTHER INFORMATION CONTACT: Sherrylyn Ball, Freedom of Information Act Coordinator, (202) 874-2058.

SUPPLEMENTARY INFORMATION: The purpose of this system of records is to provide an emergency notification system for employees who designate specific person(s) to be notified in the event of a personal emergency. The system would allow notification on a 24 hour, 7 day a week basis.

Participation by Bureau employees is entirely voluntary. Information collected will allow health unit and security personnel the ability to make proper emergency notification as designated by the employee.

The new system of records report as required by 5 U.S.C. 552a(r) of the Privacy Act has been submitted to the Committee on Government Operations of the House of Representatives, the Committee on Governmental Affairs of the Senate, and the Office of Management and Budget, pursuant to Appendix I to OMB Circular A-130, “Federal Agency Responsibilities for Maintaining Records About Individuals,” dated November 30, 2000.

The proposed Treasury/BEP .047-Employee Emergency Notification System is published in its entirety below.

Dated: August 7, 2003.
W. Earl Wright, Jr.,
Acting Chief Management and Administrative Programs Officer.

TREASURY/BEP .047

System Name:

Employee Emergency Notification System—Treasury/BEP.

System Location:

Records are maintained at the following Bureau of Engraving and Printing locations: (1) 14th and C Streets, SW., Washington, DC 20228; and (2) 9000 Blue Mound Road, Ft. Worth, Texas 76131.

Categories of Individuals Covered by the System:

Records cover those Bureau employees who have voluntarily provided personal information.

Categories of Records in the System:

The types of personal information collected by this system are necessary to ensure the timely emergency notification to individuals that employees have identified. The types of personal information presently include or potentially could include the following:

(a) Personal identifiers (name; home, work and electronic addresses; telephone, fax, and pager numbers);

(b) emergency notification (name of person to be notified; address; phone number).

Authority For Maintenance of the System:

31 U.S.C. 3101, et seq., and 5 U.S.C. 301.

Purpose:

The purpose of this system of records is to provide emergency notification to those person(s) as voluntarily provided by employees, emergency service providers and law enforcement officials.

Routine Uses of Records Maintained in the System, Including Categories of Users and the Purposes of Such Uses:

There are no routine uses.

Policies and Practices For Storing, Retrieving, Accessing, Retaining, and Disposing of Records in the System:

Storage:

Records are maintained on manual locator cards and electronic media.

Retrievability:

Records may be retrieved by name, or other unique identifier.

Safeguards:

BEP has sophisticated Internet firewall security via hardware and software configurations as well as specific monitoring tools. Records are maintained in controlled access areas. Identification cards are verified to ensure that only authorized personnel are present. Electronic records are protected by restricted access procedures, including the use of passwords, sign-on protocols, and user authentication that are periodically changed. Only employees whose official duties require access are allowed to view, administer, and control these records.

Retention and Disposal:

Records will be updated by the employees on a voluntary basis and kept for the duration of the individual's employment. Records can be destroyed at any time at the direction of the employee. Paper records that are ready for disposal are destroyed by shredding or burning. Records in electronic media are electronically erased using accepted techniques.

System Manager and Address:

Chief, Office of Administrative Services, Bureau of Engraving and Printing, 14th and C Streets, SW., Washington, DC 20228.

Notification procedure:

Individuals wishing to be notified if they are named in this system of records, gain access to the records, or contest the contents of any records maintained in this system may inquire in accordance with instructions appearing in 31 CFR part 1, subpart C, appendix F. Address inquiries to Disclosure Officer, Bureau of Engraving and Printing, 14th and C Streets, SW., Washington, DC 20228.

Record Access Procedures:

See “Notification procedure” above.

Record Source Categories:

See “Notification procedure” above.

Contesting Record Procedures:

See “Notification procedure” above.

Exemptions Claimed for the System:

None.

[FR Doc. 03-20808 Filed 8-15-03; 8:45 am]

BILLING CODE 4840-01-P